DEPARTMENT OF HEALTH AND HUMAN SERVICES

Centers for Disease Control and Prevention

National Center for Injury Prevention and Control Initial Review Group (NCIPC IRG)

Correction: This notice was published in the Federal Register on May 1, 2009, Volume 74, Number 83, Page 20325. The times and place for the aforementioned meeting for the review, discussion, and evaluation of individual research cooperative agreement applications submitted in response to Fiscal Year 2009 Requests for Applications (RFA) related to the following individual research announcement: RFA EH-09-002 “Program to Expand State Public Health Laboratory Capacity for Newborn Bloodspot Screening (U01)” has been changed to the following:

Times and Date:

12:30 p.m.-12:45 p.m., July 9, 2009 (Open)

12:45 p.m.-2:30 p.m., July 9, 2009 (Closed)

Place: Teleconference, Toll Free: 888-793-2154, Participant Passcode: 4424802.

Contact Person for More Information: Jane Suen, Dr.P.H., M.S., NCIPC, CDC, 4770 Buford Highway, NE., Mailstop F-62, Atlanta, Georgia 30341. Telephone: (770) 488-4281.

The Director, Management Analysis and Services Office has been delegated the authority to sign Federal Register notices pertaining to announcements of meetings and other committee management activities for both CDC and the Agency for Toxic Substances and Disease Registry.

Dated: May 19, 2009.
Elaine L. Baker,
Director, Management Analysis and Services Office, Centers for Disease Control and Prevention.

[FR Doc. E9-12325 Filed 5-26-09; 8:45 am]

BILLING CODE 4163-18-P